DEPARTMENT OF ENERGY

Federal Energy Regulatory Commission

18 CFR Part 260

[Docket No. RM01-1-000; Order No.621]

Natural Gas Service Interruption Reporting Procedures

Issued December 14, 2000.

AGENCY: Federal Energy Regulatory Commission.

ACTION: Final rule.

SUMMARY: The Federal Energy Regulatory Commission (Commission) is amending its rules regarding reports by natural gas pipeline companies on service interruptions to reflect changes in the Commission's internal structure. This revision changes only the official to whom such reports are made.

EFFECTIVE DATE: This final rule is effective January 22, 2001.

FOR FURTHER INFORMATION CONTACT: Wilbur Miller, Office of the General Counsel, 888 First Street, NE., Washington, DC 20426, (202) 208-0953.

SUPPLEMENTARY INFORMATION:

Natural Gas Service Interruption Reporting Procedures

Before Commissioners: James J. Hoecker, Chairman; William L. Massey, Linda Breathitt, and Curt Hébert, Jr.

I. Introduction

The Federal Energy Regulatory Commission (Commission) is amending 18 CFR Part 260 to change the official to whom natural gas pipeline companies must submit reports on service interruptions. This change is necessitated by changes in the Commission's internal organization and will avoid confusion on the part of companies filing such reports.

II. Background

Currently, 18 CFR 260.9(b) and (c) require natural gas pipeline companies to submit reports on service interruptions to the Director, Division of Environmental and Engineering Review, Office of Pipeline Regulation. As a result of internal reorganization, however, the Office of Pipeline Regulation no longer exists. The relevant responsibilties now are handled by the Director, Division of Pipeline Certificates, Office of Energy Projects.

III. Discussion

This revision changes the title of the official to whom reports are made.

The Commission is issuing this rulemaking as a final rule, without a period for public comment. Under 5 U.S.C. 553(b), notice and comment procedures are unnecessary for rulemakings that concern only matters of agency practice and procedure. This rulemaking fits that description.

IV. Regulatory Flexibility Act Certification

The Regulatory Flexibility Act (RFA) requires agencies to prepare certain statements, descriptions and analyses of rules that will have a significant impact on a substantial number of small entities.¹ The Commission is not required to make such analyses if a rule would not have such an effect. The Commission certifies that this rule will not have such an impact on small entities.

¹ 5 U.S.C. 601-612.

V. Environmental Statement

Commission regulations require that an environmental assessment or an environmental impact statement be prepared for any Commission action that may have a significant adverse effect on the human environment.² The Commission has categorically excluded certain actions from this requirement as not having a significant effect on the human environment. Among these are rules that are clarifying, corrective, or procedural, or that do not substantively change the effect of the regulations being amended.³ This rule is procedural in nature and therefore falls under this exception; consequently, no environmental consideration is necessary.

² Order No. 486, Regulations Implementing National Environmental Policy Act, 52 FR 47897 (Dec. 17, 1987), FERC Stats. & Regs., Regulations Preambles 1986-1990 30,783 (1987).

³ 18 CFR 380.4(a)(2)(ii).

VI. Information Collection Statement

The Office of Management and Budget's (OMB) regulations require OMB to approve certain information collection requirements imposed by agency rule.⁴ Respondents subject to the filing requirements of this Rule will not be penalized for failing to respond to these collections of information unless the collections of information display a valid OMB control number. This final rule does not contain any information collection subject to the Paperwork Reduction Act of 1995.⁵

⁴ 5 CFR 1320.12.

⁵ U.S.C. 3501 et seq.

VII. Document Availability

In addition to publishing the full text of this document in the Federal Register, the Commission provides all interested persons an opportunity to view and/or print the contents of this document via the Internet through FERC's Home Page (http://www.ferc.fed.us) and in FERC's Public Reference Room during normal business hours (8:30 a.m. to 5:00 p.m. Eastern time) at 888 First Street, N.E., Room 2A, Washington, DC 20426. From FERC's Home Page on the Internet, this information is available in both the Commission Issuance Posting System (CIPS) and the Records and Information Management System (RIMS).

• CIPS provides access to the texts of formal documents issued by the Commission since November 14, 1994.

• CIPS can be accessed using the CIPS link or the Energy Information Online icon. The full text of this document is available on CIPS in ASCII and WordPerfect 8.0 format for viewing, printing, and/or downloading.

• RIMS contains images of documents submitted to and issued by the Commission after November 16, 1981. Documents from November 1995 to the present can be viewed and printed from FERC's Home Page using the RIMS link or the Energy Information Online icon. Descriptions of documents back to November 16, 1981, are also available from RIMS-on-the-Web; requests for copies of these and other older documents should be submitted to the Public Reference Room.

User assistance is available for RIMS, CIPS, and the Website during normal business hours from our Help line at (202) 208-2222 (E-Mail to WebMaster@ferc.fed.us) or the Public Reference at (202) 208-1371 (E-Mail to public.referenceroom@ferc.fed.us). During normal business hours, documents can also be viewed and/or printed in FERC's Public Reference Room, where RIMS, CIPS, and the FERC Website are available. User assistance is also available.

VIII. Effective Date and Congressional Notification

This regulation becomes effective January 22, 2001. The Commission has concluded that this rule is not a “major rule” as defined in section 251 of the Small Business Regulatory Enforcement Fairness Act of 1996. The provisions of 5 U.S.C. 801, regarding Congressional review of rulemakings, do not apply to this rulemaking because it concerns agency procedure and practice and will not substantially affect the rights and obligations of non-agency parties. 5 U.S.C. 804(3)(C).

List of Subjects in 18 CFR Part 260

Administrative practice and procedure, Electric power, Penalties, Pipelines, Reporting and recordkeeping requirements.

By the Commission.
David P. Boergers,
Secretary.

In consideration of the foregoing, the Commission amends Part 260, Chapter I, Title 18, Code of Federal Regulations, as follows:

PART 260—APPROVED FORMS, NATURAL GAS ACT

1. The authority citation for Part 260 continues to read as follows:

Authority: 15 U.S.C. 717-717w, 3301-3432; 42 U.S.C. 7101-7352.

2. Sections 260.9(b) and (c) are revised to read as follows:

§ 260.9 Report by natural gas pipeline companies on service interruptions occurring on the pipeline system.

* * * * *

(b) Natural gas pipeline companies must report such interruptions to service by any electronic means, including facsimile transmission or telegraph, to the Director, Division of Pipeline Certificates, Office of Energy Projects, Federal Energy Regulatory Commission, Washington, DC 20426 (FAX: (202) 208-2853), at the earliest feasible time following such interruption to service, and must state briefly:

(1) The location of the interruption,

(2) The time of the interruption,

(3) The customers affected by the interruption, and

(4) Emergency actions taken to maintain service.

(c) If so directed by the Commission or the Director, Division of Pipeline Certificates, the company must provide any supplemental information so as to provide a full report of the circumstances surrounding the occurrence.

* * * * *

[FR Doc. 00-32383 Filed 12-20-00; 8:45 am]

BILLING CODE 6717-01-P